DEPARTMENT OF HEALTH AND HUMAN SERVICES

National Institutes of Health

Proposed Collection; 60-Day Comment Request; The Social Security Administration (SSA)-National Institutes of Health (NIH) Collaboration to Improve the Disability Determination Process: Calibration II & Predictive Validity Testing of Item Response Theory-Computer Adaptive Testing Tools (IRT-CAT) (CC)

Summary: In compliance with the requirement of Section 3506(c)(2)(A) of the Paperwork Reduction Act of 1995, for opportunity for public comment on proposed data collection projects, the Clinical Center (CC), National Institutes of Health (NIH), will publish periodic summaries of proposed projects to be submitted to the Office of Management and Budget (OMB) for review and approval.

Written comments and/or suggestions from the public and affected agencies are invited on one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, including the use of appropriate automated, electronic, mechanical, or other technological collection techniques or other forms of information technology.

To Submit Comments and For Further Information: To obtain a copy of the data collection plans and instruments, submit comments in writing, or request more information on the proposed project, contact: Daniel Hobbs, National Institutes of Health, Clinical Research Center, 6100 Executive Blvd. Suite 3C01 MSC 7515, Bethesda, MD 20892-7515 or call non-toll-free number 301-496-3817 or Email your request, including your address to: daniel.hobbs@nih.gov. Formal requests for additional plans and instruments must be requested in writing.

Comment Due Date: Comments regarding this information collection are best assured of having their full effect if received within 60 days of the date of this publication.

Proposed Collection: The SSA-NIH Collaboration to Improve the Disability Determination Process: Calibration II & Predictive Validity Testing of IRT-CAT Tools, 0925-New, Clinical Center (CC), National Institutes of Health (NIH).

Need and Use of Information Collection: The Social Security Administration (SSA) entered into an interagency agreement (IAA) with the National Institutes of Health (NIH), Clinical Center (CC), Rehabilitation Medicine Department (RMD), to explore innovative methods of functional assessment to improve SSA's disability determination process. As part of its study, NIH recommended item response theory (IRT) coupled with computer adaptive testing (CAT) as a promising approach to efficiently and consistently capture claimant functional information to assist SSA adjudicators. IRT is a framework for the design, analysis, and scoring of tests, questionnaires, and similar instruments measuring abilities, aptitudes, and other variables. It is often the preferred method for the development of tests such as the Graduate Record Examination (GRE) and the Graduate Management Admission Test (GMAT).

OMB approval is requested for 3 years. There are no costs to respondents other than their time. The total estimated annualized burden hours are 11,361.

Estimated Annualized Burden Hours
Type of respondents | Number of respondents | Frequency of response | Average time per response (in hours) | Annual hour burden
Initial Recruitment Contact (pre-notification packages) | 13,260 | 1 | 3/60 | 663
Screener Call (Not Interested) | 8,089 | 1 | 3/60 | 405
Screener Call (Participate) | 5,171 | 1 | 15/60 | 1293
SSA Claimant Survey 1 (Including reminder call/email) | 3,500 | 1 | 1 | 3,500
SSA Claimant Survey 2 (Including reminder call/email) | 3,000 | 1 | 1 | 3,000
Normative Population Survey 1 | 2,000 | 1 | 45/60 | 1,500
Normative Population Survey 2 | 2,000 | 1 | 30/60 | 1,000

Dated: April 3, 2014.
David Henderson,
Deputy Director, Clinical Center, NIH.

[FR Doc. 2014-09177 Filed 4-21-14; 8:45 am]

BILLING CODE 4140-01-P